DEPARTMENT OF COMMERCE

International Trade Administration

[A-552-801]

Certain Frozen Fish Fillets From the Socialist Republic of Vietnam: Final Results of Antidumping Duty Administrative Review and Final Determination of No Shipments; 2019-2020

AGENCY: Enforcement and Compliance, International Trade Administration, Department of Commerce.

SUMMARY: The Department of Commerce (Commerce) determines that NTSF Seafoods Joint Stock Company (NTSF), an exporter of certain frozen fish fillets (fish fillets) from the Socialist Republic of Vietnam (Vietnam), did not sell subject merchandise in the United States at prices below normal value during the period of review (POR) August 1, 2019, through July 31, 2020. Commerce also determines that it is appropriate to apply facts available, with adverse inferences (AFA), to East Sea Seafoods Joint Stock Company (ESS), an exporter of fish fillets from Vietnam. Further, Commerce determines that one additional company, Green Farms Seafood Joint Stock Company (Green Farms), is eligible for separate rate status, 32 companies did not establish eligibility for a separate rate and are part of the Vietnam-wide entity, and 15 companies had no shipments during the POR.

DATES: Applicable March 21, 2022.

FOR FURTHER INFORMATION CONTACT: Javier Barrientos or Christopher Maciuba, AD/CVD Operations, Office V, Enforcement and Compliance, International Trade Administration, U.S. Department of Commerce, 1401 Constitution Avenue NW, Washington, DC 20230; telephone: (202) 482-2243 and (202) 482-0413, respectively.

SUPPLEMENTARY INFORMATION:

Background

On September 10, 2021, Commerce published the preliminary results of this administrative review and invited interested parties to comment.¹ On November 16, 2021, Green Farms, the petitioners,² and Colorado Boxed Beef Company (CBBC) ³ submitted case briefs.⁴ On November 29, 2021, the petitioners, CBBC, Nam Viet Corporation (NAVICO) ⁵ and NTSF submitted rebuttal briefs.⁶

¹ See Certain Frozen Fish Fillets from the Socialist Republic of Vietnam: Preliminary Results of Antidumping Duty Administrative Review, Preliminary Determination of No Shipments, and Partial Rescission of Antidumping Duty Administrative Review; 2019-2020, 86 FR 50698 (September 10, 2021) (Preliminary Results), and accompanying Preliminary Decision Memorandum.

² The petitioners are the Catfish Farmers of America and individual U.S. catfish processors: America's Catch, Inc., Alabama Catfish, LLC d/b/a Harvest Select Catfish, Inc.; Consolidated Catfish Companies, LLC d/b/a Country Select Catfish; Delta Pride Catfish, Inc.; Guidry's Catfish, Inc.; Heartland Catfish Company, Magnolia Processing, Inc. d/b/a Pride of the Pond; and Simmons Farm Raised Catfish, Inc. (collectively, the petitioners).

³ CBBC is a domestic wholesaler of fish fillets.

⁴ See Green Farm's Letter, “AR17 Case Brief on Behalf of Green Farms Seafood Joint Stock Company,” dated November 16, 2021; Petitioners' Letter, “Case Brief of the Catfish Farmers of America, et al.,” dated November 16, 2021; and CBBC's Letter, “AR17 Case Brief on behalf of Colorado Boxed Beef Company,” dated November 16, 2021.

⁵ NAVICO is an exporter of fish fillets from Vietnam.

⁶ See NAVICO's Letter, “Rebuttal Brief of Nam Viet Corporation,” dated November 29, 2021; see also CBBC's Letter, “Colorado Boxed Beef Company Rebuttal to CFA's Case Brief,” dated November 29, 2021; NTSF's Letter, “Rebuttal Brief,” dated November 29, 2021; and Petitioners' Letter, “Rebuttal Brief of the Catfish Farmers of America, et al.,” dated November 29, 2021.

On December 22, 2021, we extended the deadline for issuance of these final results to March 9, 2022.⁷ In February 2022, we requested that the petitioners refile a submission made prior to the Preliminary Results after revising their bracketing of certain information designated as business proprietary information, and we permitted interested parties to comment on the newly public information.⁸ On February 15, 2022, we held a public hearing.⁹

⁷ See Memorandum, “Extension of Deadline for Final Results of Antidumping Duty Administrative Review,” dated December 22, 2021.

⁸ See Memorandum, “Refiled Submission—Rebuttal Factual Information,” dated February 2, 2022; see also CBBC's Letter, “Colorado Boxed Beef Company Response to Petitioners' Revised Double Bracket Submission,” dated February 7, 2022; NAVICO's Letter, “Rebuttal Comments on Previously Double Bracketed Submission,” dated February 7, 2022; Petitioners' Letter, “Reply to Navico's and CBBC's February 7, 2022, Rebuttal Comments,” dated February 10, 2022; and CBBC's Letter, “CBBC Comments on Navico's Double Bracket Comments,” dated February 10, 2022.

⁹ See Transcript, “United States of America, Department of Commerce, Enforcement and Compliance: Public Hearing in the Matter of: the Administrative Review of the Antidumping Order on Certain Frozen Fish Fillets from the Socialist Republic of Vietnam,” dated February 15, 2022.

Scope of the Order ¹⁰

¹⁰ See Notice of Antidumping Duty Order: Certain Frozen Fish Fillets from the Socialist Republic of Vietnam, 68 FR 47909 (August 12, 2003) (Order).

The products covered by the Order are frozen fish fillets, including regular, shank, and strip fillets and portions thereof, whether or not breaded or marinated, of the species Pangasius Bocourti, Pangasius Hypophthalmus (also known as Pangasius Pangasius) and Pangasius Micronemus. For a complete description of the scope of this order, see the Issues and Decision Memorandum.¹¹

¹¹ See Memorandum, “Issues and Decision Memorandum for the Final Results of Antidumping Duty Administrative Review; 2019-2020,” dated concurrently with, and hereby adopted by, this notice (Issues and Decision Memorandum), at 3.

Analysis of Comments Received

We addressed all issues raised in the case and rebuttal briefs filed by interested parties in the Issues and Decision Memorandum. Attached to this notice, in Appendix I, is a list of the issues which parties raised. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Final Determination of No Shipments

In the Preliminary Results, Commerce preliminarily determined that 15 companies had no shipments of subject merchandise during the POR.¹² Following the publication of the Preliminary Results, we received no comments from interested parties regarding 14 of these companies, nor has any party submitted record evidence which would call our preliminary no shipment determination into question for these companies. Therefore, for these final results, we find that these 14 companies had no shipments during the POR. For a list of the companies for which we made a no-shipment determination in these final results, see Appendix II.

¹² See Preliminary Results, 86 FR at 50699.

With respect to the remaining company, NAVICO, we received comments from interested parties requesting that Commerce reevaluate our no-shipment determination. However, for the reasons explained in the Issues and Decision Memorandum, Commerce also continues to find that NAVICO had no shipments during the POR.¹³

¹³ See Issues and Decision Memorandum at Comment 9.

Consistent with our practice, we will issue appropriate instructions to Customs and Border Protection (CBP).¹⁴

¹⁴ See Non-Market Economy Antidumping Proceedings: Assessment of Antidumping Duties, 76 FR 65694 (October 24, 2011).

Separate Rates

We continue to find that the non-individually-examined exporter Green Farms and individually-examined respondents ESS and NTSF have demonstrated eligibility for separate rates.¹⁵ As noted below, we have assigned Green Farms the average of the rates established for ESS and NTSF, consistent with our practice in administrative reviews and section 735(c)(5)(B) of the Tariff Act of 1930, as amended (the Act).¹⁶

¹⁵ See Issues and Decision Memorandum at Comments 6 and 7.

¹⁶ Id. at Comment 8.

Vietnam-Wide Entity

In the Preliminary Results, Commerce found that certain additional companies for which a review was requested did not establish eligibility for a separate rate.¹⁷ We have received no information since the issuance of the Preliminary Results that provides a basis for reconsidering this preliminary finding. Therefore, Commerce continues to find that these companies are part of the Vietnam-wide entity.¹⁸

¹⁷ See Preliminary Results, 86 FR at 50699.

¹⁸ See Appendix III.

Use of Adverse Facts Available

Pursuant to sections 776(a) and (b) of the Act, Commerce has assigned ESS a dumping margin of $3.87 per kilogram based on AFA. ESS ceased participating in this review and did not provide information requested by Commerce; accordingly, we find that necessary information is not available on the record, ESS failed to provide the requested information in the form and manner requested and significantly impeded the proceeding, pursuant to section 776(a) of the Act. Additionally, we find that ESS had necessary information in its possession and elected not to submit the information and, thus, ESS did not act to the best of its ability in responding to Commerce's information request by the applicable deadline, pursuant to section 776(b) of the Act. For further information, see Comment 6 in the Issues and Decision Memorandum.

Changes Since the Preliminary Results

We made no changes from the Preliminary Results.

Final Results of Administrative Review

The weighted-average dumping margins for the final results of this administrative review are as follows:

Exporter | Weighted- average dumping margin (dollars per kilogram)
NTSF Seafoods Joint Stock Company | 0.00
East Sea Seafoods Joint Stock Company | * 3.87
Review-Specific Rate Applicable to the Following Company: ¹⁹
Green Farms Seafood Joint Stock Company | 1.94
* This rate was determined wholly under section 776 of the Act.

Assessment Rates

¹⁹ This rate is based on an average of the rates assigned to ESS and NTSF, pursuant to section 735(c)(5)(B) of the Act.

Pursuant to section 751(a)(2)(C) of the Act, and 19 CFR 351.212(b), Commerce has determined, and CBP shall assess, antidumping duties on all appropriate entries of subject merchandise in accordance with the final results of this review. Commerce intends to issue appropriate assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For NTSF, we will instruct CBP to liquidate the appropriate entries without regard to antidumping duties. Pursuant to Commerce's assessment practice, for entries of NTSF's merchandise that were not reported in the U.S. sales data submitted by NTSF during this review, Commerce will instruct CBP to liquidate such entries at the Vietnam-wide entity rate.

Because Commerce determined ESS's margin on the basis of AFA in the final results of this review, Commerce will instruct, and CBP shall assess, antidumping duties on all appropriate entries of subject merchandise at the rate of $3.87 per kilogram. Because we assigned a rate of $1.94 per kilogram to Green Farms in the final results of this review, we will instruct, and CBP shall assess, antidumping duties on all appropriate entries of subject merchandise at the rate of $1.94 per kilogram.

Where we determined that an exporter under review had no shipments of the subject merchandise to the United States during the POR, any suspended entries that entered during the POR under that exporter's CBP case number will be liquidated at a rate of $2.39 per kilogram, the rate for the Vietnam-wide entity, consistent with Commerce's assessment practice.²⁰ Likewise, for companies that were found to be ineligible for a separate rate, we will instruct CBP to liquidate entries of subject merchandise exported by such companies at a rate of $2.39 per kilogram, the rate for the Vietnam-wide entity.

²⁰ See Non-Market Economy Antidumping Proceedings: Assessment of Antidumping Duties, 76 FR 65694 (October 24, 2011).

Cash Deposit Requirements

The following cash deposit requirements will be effective upon publication of the final results of this administrative review for all shipments of subject merchandise entered, or withdrawn from warehouse, for consumption on or after the publication date, as provided for by section 751(a)(2)(C) of the Act: (1) For the companies listed above, the cash deposit rate will be equal to the dumping margin established in the final results of this review (except, if the rate is zero or de minimis, then the cash deposit rate will be zero); (2) for previously examined Vietnamese and non-Vietnamese exporters not listed above that maintain separate rates based on a prior completed segment of this proceeding, the cash deposit rate will continue to be the existing exporter-specific cash deposit rate; (3) for all Vietnamese exporters of subject merchandise that have not been found to be entitled to a separate rate, the cash deposit rate will be that for the Vietnam-wide entity (i.e., $2.39 per kilogram); and (4) for all non-Vietnamese exporters of subject merchandise which have not received their own rate, the cash deposit rate will be the rate applicable to the Vietnamese exporter that supplied that non-Vietnamese exporter. These deposit requirements, when imposed, shall remain in effect until further notice.

Notification to Importers

This notice also serves as a final reminder to importers of their responsibility under 19 CFR 351.402(f) to file a certificate regarding the reimbursement of antidumping duties prior to liquidation of the relevant entries during this POR. Failure to comply with this requirement could result in Commerce's presumption that reimbursement of antidumping duties occurred and the subsequent assessment of doubled antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review in accordance with sections 751(a)(l) and 777(i) of the Act.

Dated: March 9, 2022.
Lisa W. Wang,
Assistant Secretary for Enforcement and Compliance.

Appendix I

List of Topics Discussed in the Issues and Decision Memorandum

I. Summary

II. Background

III. Scope of the Order

IV. Separate Rates

V. Discussion of the Issues

Comment 1: Colorado Boxed Beef Company (CBBC)'s Standing to Request a Review

Comment 2: Whether to Calculate a Margin for NTSF Seafoods Joint Stock Company (NTSF)

Comment 3: Unit for NTSF's Reported Fingerling Consumption

Comment 4: Whether to Grant NTSF's Dead Fish and Fish Fat By-Product Offsets

Comment 5: Whether to Rely on NTSF's Reported Water Allocation Methodology

Comment 6: Whether to Apply Adverse Facts Available (AFA) to East Sea Seafoods (ESS)

Comment 7: Separate-Rate Status for Green Farms Seafood (Green Farms)

Comment 8: Selection of a Separate Rate

Comment 9: Nam Viet Corporation (NAVICO) and Its Affiliation with Company X

Comment 10: Selection of Surrogate Country

VI. Recommendation

Appendix II

Companies With No Shipments During the POR

1. Ben Tre Forestry and Aquaproduct Import-Export Joint Stock Company (aka Faquimex, or Ben Tre)

2. C.P. Vietnam Corporation

3. Cafatex Corporation (aka Cafatex)

4. Cantho Import-Export Seafood Joint Stock Company (aka CASEAMEX, Cantho Import Export Seafood Joint Stock Company, Cantho Import-Export Joint Stock Company, Can Tho Import Export Seafood Joint Stock Company, Can Tho Import-Export Seafood Joint Stock Company, or Can Tho Import-Export Joint Stock Company)

5. Colorado Boxed Beef Company (aka CBBC)

6. Dai Thanh Seafoods Company Limited (aka DATHACO)

7. The Great Fish Company LLC

8. Hai Huong Seafood Joint Stock Company (aka HHFish, HH Fish, or Hai Huong Seafood)

9. Hung Vuong Group ²¹

²¹ Hung Vuong Group is a single entity comprised of the following individual companies: (1) An Giang Fisheries Import and Export Joint Stock Company; (2) Asia Pangasius Company Limited; (3) Hung Vuong Ben Tre Seafood Processing Company Limited; (4) Europe Joint Stock Company; (5) Hung Vuong-Sa Dec Co., Ltd.; (6) Hung Vuong-Vinh Long Co. Ltd.; (7) Hung Vuong Corporation; and (8) Hung Vuong Mascato Company Limited.

10. Nam Viet Corporation (aka NAVICO)

11. PREFCO Distribution LLC

12. QMC Foods, Inc.

13. Riptide Foods

14. QVD Food Company Ltd. (aka QVD, QVD Food Co., Ltd., or QVD Aquaculture) ²²

²² QVD is a single entity that also includes QVD Dong Thap Food Co., Ltd. and Thuan Hung Co., Ltd.

15. Vinh Quang Fisheries Corporation (aka Vinh Quang, Vinh Quang Fisheries Corp., Vinh Quang Fisheries Joint Stock Company, or Vinh Quang Fisheries Co., Ltd.)

Appendix III

Vietnam-Wide Entity

1. Anchor Seafood Corp.

2. An Phat Import-Export Seafood Co., Ltd. (aka An Phat Seafood Co. Ltd. or An Phat Seafood Co., Ltd.)

3. Anvifish Joint Stock Company (aka Anvifish, Anvifish JSC, or Anvifish Co., Ltd.)

4. Basa Joint Stock Company (aka BASACO)

5. Binh Dinh Import Export Company (aka Binh Dinh)

6. Cadovimex II Seafood Import-Export and Processing Joint Stock Company (aka Cadovimex II)

7. Can Tho Animal Fishery Products Processing Export Enterprise

8. Cuu Long Fish Import-Export Corporation (aka CL Panga Fish)

9. Cuu Long Fish Joint Stock Company (aka CL-Fish, CL-FISH CORP, or Cuu Long Fish Joint Stock Company)

10. GF Seafood Corp.

11. Go Dang An Hiep One Member Limited Company

12. Go Dang Ben Tre One Member Limited Liability Company

13. Hoa Phat Seafood Import-Export and Processing J.S.C. (aka HOPAFISH, Hoa Phat Seafood Import-Export and Processing Joint Stock Company, Hoa Phat Seafood Import-Export and Processing JSC)

14. Hoang Long Seafood Processing Company Limited (aka HLS)

15. Indian Ocean One Member Company Limited (aka Indian Ocean Co., Ltd.)

16. Lian Heng Investment Co., Ltd. (aka Lian Heng or Lian Heng Investment)

17. Lian Heng Trading Co., Ltd. (aka Lian Heng or Lian Heng Trading)

18. Nam Phuong Seafood Co., Ltd. (aka Nam Phuong, or NAFISHCO)

19. New Food Import, Inc.

20. NTACO Corporation (aka NTACO)

21. Seafood Joint Stock Company No. 4 (aka SEAPRIEXCO No. 4)

22. Seafood Joint Stock Company No. 4 Branch Dongtam Fisheries Processing Company (aka DOTASEAFOODCO or Seafood Joint Stock Company No. 4—Branch Dong Tam Fisheries Processing Company)

23. Southern Fishery Industries Company, Ltd. (aka South Vina)

24. Thanh Hung Co., Ltd. (aka Thanh Hung Frozen Seafood Processing Import Export Co., Ltd.)

25. Thien Ma Seafood Co., Ltd (aka THIMACO)

26. Thuan An Production Trading and Service Co., Ltd. (aka TAFISHCO)

27. To Chau Joint Stock Company (aka TOCHAU, TOCHAU JSC, or TOCHAU Joint Stock Company)

28. Viet Hai Seafood Company Limited (aka Viet Hai)

29. Viet Phu Foods and Fish Corporation (aka Vietphu)

30. Viet Phu Foods & Fish Co., Ltd.

31. Vietnam Seaproducts Joint Stock Company (aka Seaprodex or Vietnam Seafood Corporation—Joint Stock Company)

32. Vinh Long Import-Export Company (aka Vinh Long)

[FR Doc. 2022-05859 Filed 3-18-22; 8:45 am]

BILLING CODE 3510-DS-P